DEPARTMENT OF HOMELAND SECURITY

Federal Emergency Management Agency

44 CFR Part 65

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Division Director of FEMA resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Alabama:
Elmore (FEMA Docket No: B-7717) | Unincorporated areas of Elmore County (07-04-0063P) | March 21, 2007; March 28, 2007; The Wetumpka Herald | The Honorable Joe Faulk, Chairman, Elmore County Board of Commissioners, 100 East Commerce Street, Wetumpka, AL 36092 | June 27, 2007 | 010406
Houston (FEMA Docket No: B-7717) | City of Ashford (07-04-1348P) | March 15, 2007; March 22, 2007; The Dothan Eagle | The Honorable Bryan Alloway, Mayor, City of Ashford, P.O. Box 428, Ashford, AL 36312 | February 26, 2007 | 010099
Arizona:
Cochise (FEMA Docket No: B-7719) | City of Sierra Vista 06-09-BA33P) | April 12, 2007; April 19, 2007; Sierra Vista Herald | The Honorable Bob Strain, Mayor, City of Sierra Vista, City Hall, 1011 North Coronado Drive, Sierra Vista, AZ 85635 | March 30, 2007 | 040017
Coconino (FEMA Docket No: B-7719) | City of Williams (07-09-0666P) | April 12, 2007; April 19, 2007; Arizona Daily Sun | The Honorable Kenneth Edes, Mayor, City of Williams, 113 South First Street, Williams, AZ 86046 | March 29, 2007 | 040027
Maricopa (FEMA Docket No: B-7717) | City of Peoria (07-09-0452P) | March 29, 2007; April 5, 2007; Arizona Business Gazette | The Honorable John C. Keegan, Mayor, City of Peoria, City of Peoria Municipal Complex, 8401 West Monroe Street, Peoria, AZ 85345 | March 9, 2007 | 040050
Mohave (FEMA Docket No: B-7717) | City of Bullhead City (06-09-B164P) | April 6, 2007; April 13, 2007; Bullhead City Bee | The Honorable Norm Hicks, Mayor, City of Bullhead City, 1255 Marina Boulevard, Bullhead City, AZ 86442 | July 11, 2007 | 040125
Pima (FEMA Docket No: B-7717) | Town of Oro Valley (07-09-0603P) | April 5, 2007; April 12, 2007; The Daily Territorial | The Honorable Paul H. Loomis, Town of Oro Valley, 11000 North La Canada Drive, Oro Valley, AZ 85737 | March 21, 2007 | 040109
Pima (FEMA Docket No: B-7716) | City of Tucson (07-09-0551P) | March 15, 2007; March 22, 2007; The Daily Territorial | The Honorable Bob Walkup, Mayor, City of Tucson, City Hall, 255 West Alameda Street, Tucson, AZ 85701 | February 28, 2007 | 040076
Arkansas:
Baxter (FEMA Docket No: B-7719) | City of Mountain Home (07-06-0816P) | April 19, 2007; April 26, 2007; The Baxter Bulletin | The Honorable David Osmon, Mayor, City of Mountain Home, 720 South Hickory Street, Mountain Home, AR 72653 | July 26, 2007 | 050531
Benton (FEMA Docket No: B-7717) | City of Bentonville (06-06-B031P) | March 22, 2007; March 29, 2007; Benton County Daily Record | The Honorable Bob McCaslin, Mayor, City of Bentonville, City Hall, 117 West Central, Bentonville, AR 72712 | June 28, 2007 | 050012
Benton (FEMA Docket No: B-7717) | City of Springdale (06-06-BI15P) | March 22, 2007; March 29, 2007; Benton County Daily Record | The Honorable Jerre M. Van Hoose, Mayor, City of Springdale, 201 Spring Street, Springdale, AR 72764 | June 28, 2007 | 050219
Benton (FEMA Docket No: B-7717) | Unincorporated areas of Benton County (06-06-BI15P) | March 22, 2007; March 29, 2007; Benton County Daily Record | The Honorable Gary D. Black, Benton County Judge, 215 East Central Avenue, Bentonville, AR 72712 | June 28, 2007 | 050419
Craighead (FEMA Docket No: B-7719) | City of Jonesboro (07-06-0264P) | April 27, 2007; May 4, 2007; Jonesboro Sun | The Honorable Doug Formon, Mayor, City of Jonesboro, 515 West Washington, Jonesboro, AR 72401 | April 30, 2007 | 050048
California:
Placer (FEMA Docket No: B-7719) | City of Roseville (06-09-BA39P) | April 11, 2007; April 18, 2007; Roseville Press-Tribune | The Honorable Jim Gray, Mayor, City of Roseville, 311 Vernon Street, Suite 208, Roseville, CA 95678 | July 18, 2007 | 060243
Placer (FEMA Docket No: B-7719) | Unincorporated areas of Placer County (06-09-BA39P) | April 11, 2007; April 18, 2007; Roseville Press-Tribune | The Honorable Bruce Kranz, Chairman, Placer County Board of Supervisors, 175 Fulweiler Avenue, Auburn, CA 95603 | July 18, 2007 | 060239
Riverside (FEMA Docket No: B-7722) | City of Palm Springs (07-09-0588P) | May 3, 2007; May 10, 2007; The Press-Enterprise | The Honorable Ron Oden, Mayor, City of Palm Springs, 3200 East Tahquitz Canyon Way, Palm Springs, CA 92262 | August 9, 2007 | 060257
Sacramento (FEMA Docket No: B-7719) | Unincorporated areas of Sacramento County (07-09-0205P) | April 19, 2007; April 26, 2007; The Daily Recorder | The Honorable Don Nottoli, Chairman, Board of Supervisors Sacramento County, 700 H Street, Suite 2450, Sacramento, CA 95814 | July 26, 2007 | 060262
Shasta (FEMA Docket No: B-7717) | City of Redding (05-09-0728P) | March 22, 2007; March 29, 2007; Record Searchlight | The Honorable Ken Murray, Mayor, City of Redding, 777 Cypress Avenue, Redding, CA 96001 | June 28, 2007 | 060360
Shasta (FEMA Docket No: B-7717) | Unincorporated areas of Shasta County (05-09-0728P) | March 22, 2007; March 29, 2007; Record Searchlight | The Honorable Trish Clarke, Chairman, Shasta County Board of Supervisors, 1450 Court Street, Redding, CA 96001 | June 28, 2007 | 060358
Ventura (FEMA Docket No: B-7730 & B-7729) | City of Simi Valley (06-09-B562P) | March 22, 2007; March 29, 2007; Ventura County Star | The Honorable Paul Miller, Mayor, City of Simi Valley, 2929 Tapo Canyon Road, Simi Valley, CA 93063 | June 28, 2007 | 060421
Colorado:
Adams (FEMA Docket No: B-7719) | City of Aurora (07-08-0252P) | April 20, 2007; April 27, 2007; Eastern Colorado News | The Honorable Ed Tauer, Mayor, City of Aurora, 15151 East Alameda Parkway,Aurora, CO 80012 | July 27, 2007 | 080002
Adams (FEMA Docket No: B-7719) | Unincorporated areas of Adams County (07-08-0252P) | April 20, 2007; April 27, 2007; Eastern Colorado News | The Honorable Alice J. Nichol, Chairman, Adams County Board of Commissioners, 450 South Fourth Avenue, Brighton, CO 80601 | July 27, 2007 | 080001
Arapahoe (FEMA Docket No: B-7719) | City of Englewood (06-08-B392P) | April 6, 2007; April 13, 2007; The Englewood Herald | The Honorable Olga Wolosyn, Mayor, City of Englewood, 1000 Englewood Parkway, Englewood, CO 80110-2373 | July 13, 2007 | 085074
Araphaoe (FEMA Docket No: B-7719) | City of Littleton (06-08-B392P) | April 6, 2007; April 13, 2007; The Englewood Herald | The Honorable Jim Taylor, Mayor, City of Littleton, 2255 West Barry Avenue, Littleton, CO 80165 | July 13, 2007 | 080017
El Paso (FEMA Docket No: B-7719) | City of Colorado Springs (05-08-0368P) | February 14, 2007; February 21, 2007; El Paso County Advertiser and News | The Honorable Lionel Rivera, Mayor, City of Colorado Springs, P.O. Box 1575, Colorado Springs, CO 80901 | May 23, 2007 | 080060
El Paso (FEMA Docket No: B-7719) | Unincorporated areas of El Paso County (05-08-0368P) | February 14, 2007; February 21, 2007; El Paso County Advertiser and News | The Honorable Sallie Clark, Chair, El Paso County Board of Commissioners, 27 East Vermijo Avenue, Colorado Springs, CO 80903 | May 23, 2007 | 080059
El Paso (FEMA Docket No: B-7722) | Unincorporated areas of El Paso County (07-08-0044P) | May 16, 2007; May 23, 2007; El Paso County Advertiser and News | The Honorable Dennis Hisey, Chairman, El Paso County Board of Commissioners, 27 East Vermijo Avenue, Colorado Springs, CO 80903 | August 22, 2007 | 080059
Jefferson (FEMA Docket No: B-7716) | Unincorporated areas of Jefferson County (07-08-0130P) | March 15, 2007; March 22, 2007; The Golden Transcript | The Honorable J. Kevin McCasky, Chairman, Jefferson County Board of Commissioners, 100 Jefferson County Parkway, Golden, CO 80419-5550 | January 22, 2007 | 080087
Delaware: New Castle (FEMA Docket No: B-7722) | Unincorporated areas of New Castle County (07-03-0213P) | May 18, 2007; May 25, 2007; Newark Post | Mr. Christopher Koons, County Executive, New Castle County, 87 Read's Way, New Castle, DE 19720 | August 24, 2007 | 105085
Florida:
Charlotte (FEMA Docket No: B-7722) | Unincorporated areas of Charlotte County (07-04-0469P) | May 24, 2007; May 31, 2007; Charlotte Sun | The Honorable Thomas G. Moore, Chairman, Charlotte County Board of Commissioners, 18500 Murdock Circle, Port Charlotte, FL 33948 | April 27, 2007 | 120061
Charlotte (FEMA Docket No: B-7716) | Unincorporated areas of Charlotte County (07-04-1701P) | March 15, 2007; March 22, 2007; Charlotte Sun | The Honorable Bruce Loucks, County Administrator, Charlotte County, 18500 Murdock Circle, Port Charlotte, FL 33948 | February 21, 2007 | 120061
Collier (FEMA Docket No: B-7722) | City of Naples (07-04-2297P) | May 24, 2007; May 31, 2007; Naples Daily News | The Honorable Bill Barnett, Mayor, City of Naples, 735 Eighth Street South, Naples, FL 34102 | April 27, 2007 | 125130
Lake (FEMA Docket No: B-7717) | Unincorporated areas of Lake County (07-04-0194P) | March 16, 2007; March 23, 2007; The Daily Commerical | The Honorable Welton G. Cadwell, Chairman, Lake County Board of Commissioners, P.O. Box 7800, Tavares, FL 32778-7800 | June 22, 2007 | 120421
Manatee (FEMA Docket No: B-7722) | Unincorporated areas of Manatee County (06-04-C664P) | May 24, 2007; May 31, 2007; Bradenton Herald | The Honorable Amy E. Stein, Chairman, Manatee County Board of Commissioners, P.O. Box 1000, Bradenton, FL 34206 | August 30, 2007 | 120153
Polk (FEMA Docket No: B-7717) | City of Lakeland (06-04-C505P) | March 19, 2007; March 26, 2007; The Polk County Democrat | The Honorable Ralph L. Fletcher, Mayor, City of Lakeland, 228 South Massachusetts Avenue, Lakeland, FL 33801 | February 26, 2007 | 120267
Polk (FEMA Docket No: B-7717) | Unincorporated areas of Polk County (07-04-1702P) | March 19, 2007; March 26, 2007; The Polk County Democrat | Mr. Michael Herr, County Manager, Polk County, P.O. Box 9005, Drawer BC01, Bartow, FL 33831 | February 28, 2007 | 120261
Walton (FEMA Docket No: B-7722) | City of Freeport (07-04-3565X) | May 17, 2007; May 24, 2007; Northwest Florida Daily News | The Honorable J. Mickey Marse, Mayor, City of Freeport, P.O. Box 339, Freeport, FL 32439 | April 30, 2007 | 120319
Georgia:
Columbia (FEMA Docket No: B-7717) | Unincorporated areas of Columbia County (07-04-1276P) | March 21, 2007; March 28, 2007; Columbia County News-Times | The Honorable Ron C. Cross, Chairman, Columbia County Board of Commissioners, P.O. Box 498, Evans, GA 30809 | June 27, 2007 | 130059
Forsyth (FEMA Docket No: B-7719) | Unincorporated areas of Forsyth County (06-04-C359P) | March 21, 2007; March 28, 2007; Forsyth County News | The Honorable Jack Conway, Chairman, Forsyth County Board of Commissioners, 110 East Main Street, Cumming, GA 30040 | June 27, 2007 | 130312
Gwinnett (FEMA Docket No: B-7719) | Unincorporated areas of Gwinnett County (06-04-B747P) | April 19, 2007; April 26, 2007; Gwinnett Daily Post | The Honorable Charles Bannister, Chairman, Gwinnett County Board of Commissioners, 75 Langley Drive, Lawrenceville, GA 30045 | July 26, 2007 | 130322
Jackson (FEMA Docket No: B-7717) | Unincorporated areas of Jackson County (06-04-BY83P) | March 21, 2007; March 28, 2007; The Jackson Herald | The Honorable Pat Bell, Chairman, Jackson County Board of Commissioners, 67 Athens Street, Jefferson, GA 30549 | June 27, 2007 | 130345
Idaho: Blaine (FEMA Docket No: B-7717) | Unincorporated areas of Blaine County (06-10-B204P) | March 21, 2007; March 28, 2007; Wood River Journal | The Honorable Tom Bowman, Chairman, Blaine County Board of Commissioners, 206 First Avenue South, Hailey, ID 83333 | March 27, 2007 | 165167
Illinois:
Cook (FEMA Docket No: B-7719) | Village of Matteson (06-05-B267P) | April 12, 2007; April 19, 2007; Daily Herald | The Honorable Mark W. Stricker, Village President, Village of Matteson, 4900 Village Commons, Matteson, IL 60443 | July 19, 2007 | 170123
Du Page (FEMA Docket No: B-7719) | Village of Lisle (07-05-1672P) | April 27, 2007; May 4, 2007; Lisle Sun | The Honorable Joseph Broda, Mayor, Village of Lisle, 925 Burlington Avenue, Lisle, IL 60532 | March 30, 2007 | 170211
Kane (FEMA Docket No: B-7722) | City of St. Charles (07-05-0398P) | May 24, 2007; May 31, 2007; Press Republican | The Honorable Donald P. DeWitte, Mayor, City of St. Charles, Two East Main Street, St. Charles, IL 60174 | August 30, 2007 | 170330
Lake (FEMA Docket No: B-7722) | Village of Hawthorn Woods (07-05-2482P) | May 24, 2007; May 31, 2007; Lake County News Sun | The Honorable Keith Hunt, Mayor, Village of Hawthorn Woods, Two Lagoon Drive, Hawthorn Woods, IL 60047 | May 30, 2007 | 170366
McHenry (FEMA Docket No: B-7719) | Village of Hebron (07-05-0618P) | April 19, 2007; April 26, 2007; The Northwest Herald | The Honorable Frank Beatty, President, Village of Hebron, P.O. Box 372, Hebron, IL 60034 | July 26, 2007 | 170086
McHenry (FEMA Docket No: B-7719) | Unincorporated areas of McHenry County (07-05-0618P) | April 19, 2007; April 26, 2007; The Northwest Herald | The Honorable Kenneth D. Koehler, County Board Chairman, McHenry County, 2200 North Seminary Avenue, Woodstock, IL 60098 | July 26, 2007 | 170732
Peoria (FEMA Docket No: B-7717) | City of Peoria (06-05-BA71P) | March 22, 2007; March 29, 2007; Peoria Journal Star | The Honorable Jim Ardis, Mayor, City of Peoria, 6141 North Evergreen Circle, Peoria, IL 61614 | February 28, 2007 | 170536
Peoria (FEMA Docket No: B-7717) | Unincorporated areas of Peoria County (06-05-BA71P) | March 22, 2007; March 29, 2007; Peoria Journal Star | The Honorable David Williams, Chairman, Peoria County Board, County Courthouse, 324 Main Street, Peoria, IL 61602 | February 28, 2007 | 170533
Indiana: Allen (FEMA Docket No: B-7719) | City of New Haven (07-05-1901P) | April 19, 2007; April 26, 2007; Journal Gazette | The Honorable Terry E. McDonald, Mayor, City of New Haven, 815 Lincoln Highway East, New Haven, IN 46774 | July 26, 2007 | 180004
Kansas:
Butler (FEMA Docket No: B-7722) | City of Andover (07-07-0419P) | May 24, 2007; May 31, 2007; The El Dorado Times | The Honorable Ben Lawrence, Mayor, City of Andover, 909 North Andover Road, Andover, KS 67002 | April 27, 2007 | 200383
Sedgwick (FEMA Docket No: B-7719) | City of Wichita (07-07-0461P) | April 19, 2007; April 26, 2007; The Wichita Eagle | The Honorable Carlos Mayans, Mayor, City of Wichita, City Hall, First Floor, 455 North Main, Wichita, KS 67202 | March 30, 2007 | 200328
Sedgwick (FEMA Docket No: B-7719) | Unincorporated areas of Sedgwick County (07-07-0461P) | April 19, 2007; April 26, 2007; The Wichita Eagle | The Honorable Dave Unruh, Chairman, Sedgwick County, Board of Commissioners, 525 North Main, Suite 320, Wichita, KS 67203 | March 30, 2007 | 200321
Louisiana: Livingston (FEMA Docket No: B-7719) | Unincorporated areas of Livingston Parish (06-06-BJ93P) | April 5, 2007; April 12, 2007; The Livingston Parish News | The Honorable Mike Grimmer, President, Livingston Parish, P.O. Box 427, Livingston, LA 70754 | July 12, 2007 | 220113
Maine:
Cumberland (FEMA Docket No: B-7719) | Town of Harpswell (07-01-0567P) | April 12, 2007; April 19, 2007; Portland Press Herald | The Honorable Samuel W. Alexander, Chair, Board of Selectmen, Town of Harpswell, P.O. Box 39, Harpswell, ME 04079 | April 2, 2007 | 230169
Knox (FEMA Docket No: B-7719) | Town of Rockport (07-01-0131P) | April 19, 2007; April 26, 2007; The Courier Gazette | The Honorable Robert H. Nichols, Chairman, Board of Selectmen, Town of Rockport, P.O. Box 10, Rockport, ME 04856 | April 2, 2007 | 230077
Massachusetts: Norfolk (FEMA Docket No: B-7719) | Town of Westwood (07-01-0169P) | April 19, 2007; April 26, 2007; Westwood Press | The Honorable Anthony Antonellis, Chairman, Board of Selectmen, Town of Westwood, 580 High Street, Westwood, MA 02090 | March 30, 2007 | 255225
Michigan:
Oakland (FEMA Docket No: B-7719) | City of Troy (06-05-BZ47P) | April 13, 2007; April 20, 2007; Oakland County Legal News | The Honorable Louise E. Schilling, Mayor, City of Troy, 500 West Big Beaver Road, Troy, MI 48084 | April 19, 2007 | 260180
Wayne (FEMA Docket No: B-7717) | City of Taylor (07-05-0263P) | March 21, 2007; March 28, 2007; The News Herald | The Honorable Cameron G. Priebe, Mayor, City of Taylor, Taylor City Hall, 23555 Goddard Road, Taylor, MI 48180 | March 28, 2007 | 260728
Minnesota:
Dakota (FEMA Docket No: B-7722) | City of Burnsville (07-05-0873P) | May 24, 2007; May 31, 2007; Burnsville Sun-Current | The Honorable Elizabeth Kautz, Mayor, City of Burnsville, 100 Civic Center Parkway, Burnsville, MN 55337 | August 30, 2007 | 270102
Hennepin (FEMA Docket No: B-7719) | City of Golden Valley (06-05-BK37P) | April 18, 2007; April 25, 2007; Star Tribune | The Honorable Linda Loomis, Mayor, City of Golden Valley, 6677 Olson Memorial Highway, Golden Valley, MN 55427 | July 25, 2007 | 270162
Missouri: St. Louis (FEMA Docket No: B-7717) | City of Sunset Hills (06-07-BB03P) | March 22, 2007; March 29, 2007; The St. Louis Daily Record | The Honorable Kenneth Vogel, Mayor, City of Sunset Hills, 3939 South Lindbergh Boulevard, Sunset Hills, MO 63127 | June 28, 2007 | 290387
Nebraska: Lancaster (FEMA Docket No: B-7719) | Village of Firth (06-07-B874P) | April 26, 2007; May 3, 2007; Lincoln Journal Star | The Honorable David Hobelman, Chairman, Village of Firth Board, P.O. Box 38, Firth, NE 68358 | August 2, 2007 | 310135
Nevada: Washoe (FEMA Docket No: B-7717) | Unincorporated areas of Washoe County (06-09-BG15P) | March 22, 2007; March 29, 2007; Reno Gazette-Journal | The Honorable Robert Larkin, Chair, Washoe County Board of Commissioners, P.O. Box 11130, Reno, NV 89520 | June 28, 2007 | 320019
New Mexico: Bernalillo (FEMA Docket No: B-7717) | City of Albuquerque (06-06-BG87P) | April 5, 2007; April 12, 2007; The Albuquerque Journal | The Honorable Martin J. Chavez, Mayor, City of Albuquerque, P.O. Box 1293, Albuquerque, NM 87103 | March 21, 2007 | 350002
North Dakota: Grand Forks (FEMA Docket No: B-7719) | City of Grand Forks (07-08-0331P) | April 26, 2007; May 3, 2007; Grand Forks Herald | The Honorable Michael R. Brown, Mayor, City of Grand Forks, P.O. Box 5200, Grand Forks, ND 58206 | August 2, 2007 | 385365
Ohio:
Fairfield (FEMA Docket No: B-7722) | City of Lancaster (07-05-1581P) | April 26, 2007; May 3, 2007; Lancaster Eagle-Gazette | The Honorable David S. Smith, Mayor, City of Lancaster, 104 East Main Street, Lancaster, OH 43130 | August 2, 2007 | 390161
Fairfield (FEMA Docket No: B-7722) | Unincorporated areas of Fairfield County (07-05-1581P) | April 26, 2007; May 3, 2007; Lancaster Eagle-Gazette | The Honorable Judy Shupe, Chairman, Fairfield County Board of Commissioners, 210 East Main Street, Room 301, Lancaster, OH 43130 | August 2, 2007 | 390158
Franklin (FEMA Docket No: B-7719) | City of Columbus (06-05-B004P) | April 12, 2007; April 19, 2007; The Columbus Dispatch | The Honorable Michael B. Coleman, Mayor, City of Columbus, City Hall, 2nd Floor, 90 West Broad Street, Columbus, OH 43215 | March 26, 2007 | 390170
Franklin (FEMA Docket No: B-7719) | Unincorporated areas of Franklin County (06-05-B004P) | April 12, 2007; April 19, 2007; The Columbus Dispatch | Mr. Don L. Brown, Franklin County Administrator, 373 South High Street, 26th Floor, Columbus, OH 43215-6314 | March 26, 2007 | 390167
Hamilton (FEMA Docket No: B-7730 and B-7729) | Village of Fairfax (07-05-0437P) | February 7, 2007; February 14, 2007; The Community Press | The Honorable Theodore Shannon, Mayor, Village of Fairfax, 5903 Hawthorne Avenue, Fairfax, OH 45227 | February 22, 2007 | 390215
Hamilton (FEMA Docket No: B-7730 and B-7729) | City of Cincinnati (07-05-0437P) | February 7, 2007; February 14, 2007; The Community Press | The Honorable Mark Mallory, Mayor, City of Cincinnati, 801 Plum Street, Room 150, Cincinnati, OH 45202 | February 22, 2007 | 390210
Warren (FEMA Docket No: B-7722) | City of Springboro (07-05-0652P) | April 19, 2007; April 26, 2007; The Pulse-Journal | The Honorable John Agenbroad, Mayor, City of Springboro, 1255 South Main Street, Springboro, OH 45066 | July 26, 2007 | 390564
Warren (FEMA Docket No: B-7722) | Unincorporated areas of Warren County (07-05-0652P) | April 19, 2007; April 26, 2007; The Pulse-Journal | The Honorable C. Michael Kilburn, President, Warren County, Board of Commissioners, 406 Justice Drive, Lebanon, OH 45036 | July 26, 2007 | 390757
Warren (FEMA Docket No: B-7719) | Unincorporated areas of Warren County (07-05-0021P) | April 12, 2007; April 19, 2007; The Pulse-Journal | The Honorable C. Michael Kilburn, President, Warren County, Board of Commissioners, 406 Justice Drive, Lebanon, OH 45036 | July 19, 2007 | 390757
Oklahoma:
Cleveland (FEMA Docket No: B-7722) | City of Moore (07-06-1131P) | May 3, 2007; May 10, 2007; The Norman Transcript | The Honorable Glenn Lewis, Mayor, City of Moore, 301 North Broadway, Moore, OK 73160 | May 18, 2007 | 400044
Muskogee (FEMA Docket No: B-7717) | City of Muskogee (07-06-0707P) | March 22, 2007; March 29, 2007; Muskogee Phoenix | The Honorable Wren Stratton, Mayor, City of Muskogee, P.O. Box 1927, Muskogee, OK 74401 | June 28, 2007 | 400125
Muskogee (FEMA Docket No: B-7717) | Unincorporated areas of Muskogee County (07-06-0707P) | March 22, 2007; March 29, 2007; Muskogee Phoenix | The Honorable Gene Wallace, Chair, Muskogee County, Board of Commissioners, 124 South Fourth Street, Muskogee, OK 74401 | June 28, 2007 | 400491
Oklahoma (FEMA Docket No: B-7719) | City of Midwest City (06-06-BI13P) | April 18, 2007; April 25, 2007; The Sun | The Honorable Russell Smith, Mayor, City of Midwest City, 100 North Midwest Boulevard, Midwest City, OK 73110 | April 30, 2007 | 400405
Osage (FEMA Docket No: B-7717) | City of Bartlesville (07-06-0393P) | April 5, 2007; April 12, 2007; Examiner-Enterprise | The Honorable Julie Daniels, Mayor, City of Bartlesville, 401 South Johnstone Avenue, Bartlesville, OK 74003 | July 12, 2007 | 400220
Osage (FEMA Docket No: B-7717) | Unincorporated areas of Osage County (07-06-0393P) | April 5, 2007; April 12, 2007; Examiner-Enterprise | The Honorable Scott Hilton, Osage County Commissioner, P.O. Box 87, Pawhuska, OK 74056-0087 | July 12, 2007 | 400146
Pottawatomie (FEMA Docket No: B-7719) | Citizen Potawatomi Nation (06-06-B458P) | April 26, 2007; May 3, 2007; The Shawnee News-Star | The Honorable John A. Barrett, Chairman, Citizen Potawatomi Nation, 1601 South Gordon Cooper Drive, Shawnee, OK 74801 | April 6, 2007 | 400553
Pottawatomie (FEMA Docket No: B-7719) | City of Shawnee (06-06-B458P) | April 26, 2007; May 3, 2007 The Shawnee News-Star | The Honorable Pierre Taron, Mayor, City of Shawnee, P.O. Box 1448, Shawnee, OK 74802 | April 6, 2007 | 400178
Pottawatomie (FEMA Docket No: B-7719) | Unincorporated areas of Pottawatomie County (06-06-B458P) | April 26, 2007; May 3, 2007; The Shawnee News-Star | Mr. Bob Guinn, Pottawatomie County Commissioner, 14101 Acme Road, County Courthouse, Shawnee, OK 74804 | April 6, 2007 | 400496
Tulsa (FEMA Docket No: B-7719) | City of Broken Arrow (05-06-0076P) | April 19, 2007; April 26. 2007; The Tulsa World | The Honorable Richard Carter, Mayor, City of Broken Arrow, 220 South First Street, Broken Arrow, OK 74012 | July 26, 2007 | 400236
Tulsa and Wagoner (FEMA Docket No: B-7722) | City of Broken Arrow (06-06-BH69P) | May 10, 2007; May 17, 2007; The Tulsa World | The Honorable Richard Carter, Mayor, City of Broken Arrow, P.O. Box 610, Broken Arrow, OK 74013 | August 16, 2007 | 400236
Pennsylvania:
Centre (FEMA Docket No: B-7722) | Township of Ferguson (07-03-0218P) | May 3, 2007; May 10, 2007; Centre Daily Times | The Honorable Richard Mascolo, Chairman, Board of Supervisors, Township of Ferguson, 3147 Research Drive, State College, PA 16801 | August 9, 2007 | 420260
Chester (FEMA Docket No: B-7719) | Borough of South Coatesville (07-03-0540P) | April 19, 2007; April 26, 2007; The Daily Local | The Honorable Gregory V. Hines, Council President, Borough of South Coatesville, 136 Modena Road, South Coatesville, PA 19320 | March 30, 2007 | 420288
Montgomery (FEMA Docket No: B-7719) | Township of East Norriton (07-03-0101P) | April 12, 2007; April 19, 2007; The Times Herald | The Honorable Donald J. Gracia, Chairman, Board of Supervisors, East Norriton Township, 2501 Stanbridge Street, East Norriton, PA 19401 | March 23, 2007 | 420950
Puerto Rico: Puerto Rico (FEMA Docket No: B-7719) | Commonwealth of Puerto Rico (06-02-B737P) | April 5, 2007; April 12, 2007; The San Juan Star | The Honorable Anibal Acevedo-Vila, Governor of the Commonwealth of Puerto Rico, P.O. Box 82, La Fortaleza, San Juan, PR 00901 | July 12, 2007 | 720000
South Carolina: Jasper (FEMA Docket No: B-7719) | City of Hardeeville (06-04-C661P) | April 19, 2007; April 26, 2007; The Beaufort Gazette | The Honorable Rodney Cannon, Mayor, City of Hardeeville, 205 East Main Street, Hardeeville, SC 29927 | July 26, 2007 | 450113
South Dakota: Lawrence (FEMA Docket No: B-7717) | City of Spearfish (07-08-0282P) | March 22, 2007; March 29, 2007; Black Hills Pioneer | The Honorable Jerry Krambeck, Mayor, City of Spearfish, 625 Fifth Street, Spearfish, SD 57783 | February 28, 2007 | 460046
South Carolina: Richland (FEMA Docket No: B-7719) | Unincorporated areas of Richland County (07-04-1972P) | April 27, 2007; May 4, 2007; The Columbia Star | The Honorable Joseph McEachern, Chairman, Richland County Council, Richland County Administration Building, 2020 Hampton Street, Second Floor, Columbia, SC 29202 | April 12, 2007 | 450170
Tennessee:
Rutherford (FEMA Docket No: B-7719) | City of Murfressboro (07-04-2511P) | April 19, 2007; April 26, 2007; Daily News Journal | The Honorable Tommy Bragg, Mayor, City of Murfreesboro, 111 West Vine Street, Murfreesboro, TN 37130 | July 26, 2007 | 470168
Rutherford (FEMA Docket No: B-7719) | Unincorporated areas of Rutherford County (07-04-2511P) | April 19, 2007; April 26, 2007; Daily News Journal | The Honorable Ernest Burgess, Mayor, Rutherford County, County Courthouse, Room 101, Murfreesboro, TN 37130 | July 26, 2007 | 470165
Texas:
Collin (FEMA Docket No: B-7717) | City of Frisco (07-06-0542P) | March 16, 2007; March 23, 2007; Frisco Enterprise | The Honorable Michael Simpson, Mayor, City of Frisco, 6101 Frisco Square Boulevard, Frisco, TX 75034 | June 22, 2007 | 480134
Collin (FEMA Docket No: B-7719) | City of Plano (07-06-0426P) | April 12, 2007; April 19, 2007; Plano Star Courier | The Honorable Pat Evans, Mayor, City of Plano, 1520 Avenue K, Plano, TX 75074 | July 19, 2007 | 480140
Denton (FEMA Docket No: B-7717) | City of Lewisville (07-06-0243P) | March 21, 2007; March 28, 2007; Lewisville Leader | The Honorable Gene Carey, Mayor, City of Lewisville, P.O. Box 299002, Lewisville, TX 75029 | June 27, 2007 | 480195
Montgomery (FEMA Docket No: B-7717) | City of Montgomery (06-06-B395P) | March 14, 2007; March 21, 2007; Montgomery County News | The Honorable Edith Moore, Mayor, City of Montgomery, P.O. Box 708, Montgomery, TX 77256 | June 20, 2007 | 481483
Montgomery (FEMA Docket No: B-7717) | Unincorporated areas of Montgomery County (06-06-B395P) | March 14, 2007; March 21, 2007; Montgomery County News | The Honorable Alan B. Sadler, Montgomery County Judge, 301 North Thompson, Suite 210, Conroe, TX 77301 | June 20, 2007 | 480483
Tarrant (FEMA Docket No: B-7719) | City of Fort Worth (07-06-0368P) | April 12, 2007; April 19, 2007; Fort Worth Star-Telegram | The Honorable Mike J. Moncrief, Mayor, City of Fort Worth, 1000 Throckmorton Street, Fort Worth, TX 76102 | July 19, 2007 | 480596
Tarrant (FEMA Docket No: B-7717) | City of Fort Worth (07-06-0585P) | March 15, 2007; March 22, 2007; Fort Worth Star-Telegram | The Honorable Michael J. Moncrief, Mayor, City of Fort Worth, 1000 Throckmorton Street, Fort Worth, TX 76102 | June 21, 2007 | 480596
Virginia:
Fauquier (FEMA Docket No: B-7717) | Unincorporated areas of Fauquier County (06-03-B824P) | March 28, 2007; April 4, 2007; Fauquier Times-Democrat | The Honorable Harry Atherton, Chairman, Fauquier County Board of Supervisors, Warren Green Building, 10 Hotel Street, Suite 208, Warrenton, VA 20186 | July 5, 2007 | 510055
Independent City (FEMA Docket No: B-7719) | City of Norton (06-03-B601P) | April 12, 2007; April 19, 2007; The Coalfield Progress | The Honorable B. Robert Raines, Mayor, City of Norton, Municipal Building, P.O. Box 618, Norton, VA 24273 | July 19, 2007 | 510108
Independent City (FEMA Docket No: B-7717) | City of Virginia Beach (06-03-B810P) | March 22, 2007; March 29, 2007; The Virginian-Pilot | The Honorable Meyera E. Oberndorf, Mayor, City of Virginia Beach, City Hall, Suite 1, 2401 Courthouse Drive, Virginia Beach, VA 23456 | February 28, 2007 | 515531
Washington:
King (FEMA Docket No: B-7717) | City of Issaquah (06-10-B407P) | March 14, 2007; March 21, 2007; The Issaquah Press | The Honorable Ava Frisinger, Mayor, City of Issaquah, P.O. Box 1307, Issaquah, WA 98027 | March 26, 2007 | 530079
Kitsap (FEMA Docket No: B-7717) | Unincorporated areas of Kitsap County (06-10-B516P) | March 21, 2007; March 28, 2007; Port Orchard Independent | The Honorable Chris Endresen, Chairman, Kitsap County Board of Commissioners, Commissioners' Office, MS-4, 614 Division Street, Port Orchard, WA 98366 | March 27, 2007 | 530092
Wisconsin: Iowa (FEMA Docket No: B-7730 and B-7729) | Unincorporated areas of Iowa County (07-05-0219P) | January 18, 2007; January 25, 2007; The Dodgeville Chronicle | The Honorable Mark Masters, Chairman, Iowa County Board, 222 North Iowa Street, Dodgeville, WI 53533 | December 20, 2006 | 550522

(Catalog of Federal Domestic Assistance No. 97.022, “Flood Insurance.”)

Dated: September 12, 2007.
David I. Maurstad,
Federal Insurance Administrator of the National Flood Insurance Program, Department of Homeland Security, Federal Emergency Management Agency.

[FR Doc. E7-18625 Filed 9-20-07; 8:45 am]

BILLING CODE 9110-12-P